DEPARTMENT OF DEFENSE

Department of the Army

Performance Review Board Membership

AGENCY: Department of the Army, DoD.

ACTION: Notice.

SUMMARY: Notice is given of the names of members of a Performance Review Board for the Department of the Army.

DATES: The list of members is effective November 13, 2019.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha H. Adams, Executive Deputy to the Commanding General, U.S. Army Materiel Command, Redstone Arsenal, AL.

2. Mr. Stephen D. Austin, Assistant Chief of the Army Reserve, Office of the Chief Army Reserve, Washington, DC.

3. Mr. Mark F. Averill, Deputy Administrative Assistant to the Secretary of the Army/Director Resources & Program Agency, Office of the Administrative Assistant, Washington, DC.

4. Mr. Stephen G. Barth, Deputy Assistant Secretary of the Army (Cost and Economics), Office of the Assistant Secretary of the Army (Financial Management & Comptroller), Washington, DC.

5. LTG Scott D. Berrier, Deputy Chief of Staff, Office of the Deputy Chief of Staff G-2, Washington, DC.

6. Ms. Carol Burton, Director, Civilian Human Resources Agency, Aberdeen Proving Ground, MD.

7. Ms. Carla Kay Coulson, Director, Installation Services, Assistant Chief of Staff for Installation Management, Washington, DC.

8. LTG Bruce T. Crawford, Chief Information Officer/G-6, Office of the Chief Information Officer/G-6, Washington, DC.

9. LTG Edward M. Daly, Deputy Commanding General/Chief of Staff, U.S. Army Materiel Command, Redstone Arsenal, AL.

10. Mr. John J. Daniels, Deputy Assistant Secretary for Plans, Programs and Resources, Office of the Assistant Secretary of the Army (Acquisition, Logistics & Technology), Washington, DC.

11. Ms. Karen L. Durham-Aguilera, Executive Director of the Army National Cemeteries Program, Office of the Secretary of the Army, Arlington, VA.

12. MG Jason Evans, Deputy Chief of Staff G-9, Washington, DC.

13. Dr. Elizabeth Fleming, Deputy Director, Engineer Research and Development Center, U.S. Army Corps of Engineers, Vicksburg, MS.

14. LTG Charles Flynn, Deputy Chief of Staff, G-3/5/7, Washington, DC.

15. Mr. Gregory L. Garcia, Deputy Chief Information Officer, Office of the Chief Information Officer/G-6, Washington, DC.

16. GEN Michael X. Garrett, Commanding General, United States Army Forces Command, Fort Bragg, NC.

17. Mr. William J. Gillis, Principal Deputy Assistant Secretary of the Army (Installation, Energy and Environment, Assistant Secretary of the Army (Installation, Energy and Environment, Washington, DC.

18. 1Ms. Sue Goodyear, Deputy Chief Executive Officer, U.S. Army Futures Commander, Austin, TX.

19. Mr. Larry D. Gottardi, Director, Civilian Senior Leader Management Office, Office of the Deputy Under Secretary, Washington, DC.

20. Mr. Stuart A. Hazlett, Deputy Assistant Secretary of the Army (Procurement), Office of the Assistant Secretary of the Army (Acquisition, Logistics & Technology), Washington, DC.

21. Mr. Stacey Hirata, Chief, Military Programs Integration Division, U.S. Army Corps of Engineers, Washington, DC.

22. MG Donald E. Jackson, Jr., Deputy Inspector General, Office of the Inspector General, Washington, DC.

23. HON R. D. James, Assistant Secretary of the Army (Civil Works), Office of the Assistant Secretary of the Army (Civil Works), Washington, DC.

24. HON Bruce D. Jette, Assistant Secretary of the Army (Acquisition, Logistics & Technology), Office of the Assistant Secretary of the Army (Acquisition, Logistics & Technology), Washington, DC.

25. MG Rick Kaiser, Deputy Chief of Engineers/Deputy Commanding General, U.S. Army Corps of Engineers, Washington, DC.

26. Mr. Thomas E. Kelly III, Deputy Under Secretary of the Army, Office of the Deputy Under Secretary, Washington, DC.

27. Mr. Mark R. Lewis, Deputy to the Assistant Secretary of the Army (Manpower and Reserve Affairs), ASA (Manpower and Reserve Affairs), Washington, DC.

28. Mr. Christopher J. Lowman, Assistant Deputy Chief of Staff for Operations (G-3/5/7), Washington, DC.

29. Dr. David Markowitz, Assistant Deputy Chief of Staff for Programs, G-8, Office of the Deputy Chief of Staff, G-8, Washington, DC.

30. LTG Theodore D. Martin, Deputy Commanding General/Chief of Staff, U.S. Army Training and Doctrine Command, Fort Eustis, VA.

31. Mr. Phillip E. Mcghee, Deputy Chief of Staff for Resource Management, G-8, U.S. Army Forces Command, Fort Bragg, NC.

32. Ms. Kathleen S. Miller, Administrative Assistant to the Secretary of the Army, Office of the Administrative Assistant, Washington, DC.

33. Mr. Jonathan D. Moak, Principal Deputy Assistant Secretary of the Army (Financial Management & Comptroller), Office of the Assistant Secretary of the Army (Financial Management & Comptroller), Washington, DC.

34. Mr. William F. Moore, Assistant Deputy Chief of Staff, G-4, Office of the Deputy Chief of Staff, G-4, Washington, DC.

35. Mr. Larry Muzzelo, Deputy to the Commanding General, U.S. Army Communications-Electronics Command, Aberdeen Proving Ground, MD.

36. Mr. Levator Norsworthy, Jr., Deputy General Counsel (Acquisition), Office of the General Counsel, Washington, DC.

37. LTG Paul A. Ostrowski, Military Deputy/Director, Acquisition and Contracting, Office of the Assistant Secretary of the Army (Acquisition, Logistics & Technology), Washington, DC.

38. Ms. Karen W. Pane, Director of Human Resources, U.S. Army Corps of Engineers, Washington, DC.

39. LTG Aundre F. Piggee, Deputy Chief of Staff, Office of the Deputy Chief of Staff, G-4, Washington, DC.

40. Mr. Ronald William Pontius, Deputy to Commanding General, Army Cyber Command, U.S. Army Cyber Command, Fort Belvoir, VA.

41. Ms. Anne L. Richards, The Auditor General, U.S. Army Audit Agency, Fort Belvoir, VA.

42. LTG James Richardson, Commander, U.S. Army Futures Command, Austin, TX.

43. LTG Laura J. Richardson, Commanding General, U.S. Army North, San Antonio, TX.

44. Mr. J. Randall Robinson, Executive Deputy to the Commanding General, U.S. Army Installation Management Command, Fort Sam Houston, TX.

45. Ms. Dawn L. Rosarius, Principal Assistant for Acquisition, U.S. Army Medical Research and Materiel Command, Fort Detrick, MD.

46. Ms. Alexis Ross, DASA for Strategy and Acquisition Reform), Office of the Assistant Secretary of the Army (Acquisition, Logistics and Technology), Washington, DC.

47. Mr. Robert Sadowski, Senior Research Scientist (Robotics), U.S. Army Combat Capabilities Dev Command, Ground Vehicle Systems Center Research, Technology & Integration Office, Warren, MI.

48. Mr. Charles F. Sardo, Chief of Staff, U.S. Army Intelligence and Security Command, Fort Belvoir, VA.

49. Mr. Robert J. Sander, Principal Deputy General Counsel, Office of the General Counsel, Washington, DC.

50. LTG Thomas C. Seamands, Deputy Chief of Staff, Office of the Deputy Chief of Staff, G-1, Washington, DC.

51. Mr. Craig Schmauder, Deputy General Counsel, Office of the Office of General Counsel, Washington, DC.

52. LTG Thomas Seamands, Deputy Chief of Staff, G-1, Washington, DC.

53. LTG Todd T. Semonite, Chief of Engineers/Commanding General, U.S. Army Corps of Engineers, Washington, DC.

54. Ms. Lauri Snider, Senior Advisor, CI, DISCL, Sec Ent Intel and Operations Support, Deputy Chief of Staff, G-2, Washington, DC.

55. Mr. Robin P. Swan, Director, Office of Business Transformation, Office of the Secretary of the Army, Washington, DC.

56. Mr. Brian Toland, Command Counsel, HQ, U.S. Army Materiel Command, Redstone Arsenal, AL.

57. Mr. Roy A. Wallace, Assistant Deputy Chief of Staff, Office of the Deputy Chief of Staff, G-1, Washington, DC.

58. HON Casey Wardynski, Jr., Assistant Secretary of the Army (Manpower and Reserve Affairs), Office of the Assistant Secretary of the Army (Manpower and Reserve Affairs), Washington, DC.

59. LTG Eric J. Wesley, Deputy Commanding General, Futures and Concepts, U.S. Army Futures Command, Joint Base Langley-Eustis, VA.

60. Mr. Jeffrey S. White, Principal Deputy Assistant Secretary of the Army (Acquisitions, Logistics & Technology), Office of the Assistant Secretary of the Army (Acquisition, Logistics & Technology), Washington, DC.

61. Mr. Marshall M. Williams, Principal Deputy Assistant Secretary of the Army (Manpower & Reserve Affairs), Office of the Assistant Secretary of the Army (Manpower & Reserve Affairs), Washington, DC.

Thomas E. Kelly III,
Deputy Under Secretary of the Army.

[FR Doc. 2019-25495 Filed 11-22-19; 8:45 am]

BILLING CODE 5001-03-P